FEDERAL COMMUNICATIONS COMMISSION

47 CFR Part 73

[MB Docket No. 24-193; RM-11986; DA 24-614; FR ID 229399]

Radio Broadcasting Services; Huntley, Montana

AGENCY: Federal Communications Commission.

ACTION: Proposed rule.

SUMMARY: This document requests comments on a Petition for Rulemaking filed by SSR Communications, Inc., proposing to amend the Table of FM Allotments, by adding Channel 284A at Huntley, Montana, as the community's first local service. To accommodate the proposed allotment, we issue Order to Show Cause to BMG Billings, LLC, licensee of KYSX, Billings, Montana to show cause why the station license should not be modified to specify operation on Channel 286A in lieu of reserved Channel 283C1 at Billings, Montana. A staff engineering analysis indicates that Channel 284A can be allotted to Huntley, Montana, consistent with the minimum distance separation requirements of the Federal Communications Commission's (Commission) rules, with a site restriction of 13.9 km (8.6 miles) north of the community. The reference coordinates are 46-01-30 NL and 108-18-00 WL.

DATES: Comments must be filed on or before August 19, 2024, and reply comments on or before September 3, 2024.

ADDRESSES: Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

In addition to filing comments with the FCC, interested parties should serve the petitioner as follows: Matthew K. Wesolowski, CEO, SSR Communications, Inc., 740 Highway 49 North, Suite R, Flora, MS 39071, matt@wyab.com.

FOR FURTHER INFORMATION CONTACT: Rolanda F. Smith, Media Bureau, (202) 418-2054, Rolanda-Faye.Smith@fcc.gov.

SUPPLEMENTARY INFORMATION: This is a synopsis of the Commission's Notice of Proposed Rule Making and Order to Show Cause, in MB Docket No. 24-193, DA 24-614; adopted and released on June 27, 2024. The full text of this document is available online at https://docs.fcc.gov/public/attachments/DA-24-614A1.pdf.

Paperwork Reduction Act. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Providing Accountability Through Transparency Act. The Providing Accountability Through Transparency Act requires each agency, in providing notice of a rulemaking, to post online a brief plain-language summary of the proposed rule. Accordingly, the Commission will publish the required summary of this NPRM on https://www.fcc.gov/proposed-rulemakings.

Provisions of the Regulatory Flexibility Act of 1980 do not apply to this proceeding. Members of the public should note that from the time a notice of proposed rulemaking is issued until the matter is no longer subject to Commission consideration or court review, all ex parte contacts are prohibited in Commission proceedings, such as this one, which involve channel allotments. See 47 CFR 1.1204(b) for rules governing permissible ex parte contacts.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202, in paragraph (b), amend table 1 under Montana by adding, in alphabetical order, the entry for “Huntley” to read as follows:

§ 73.202 Table of Allotments.

* * * * *

(b) * * *

Table 1 to Paragraph (b)
[U.S. States]
| Channel No.
* * * * *
Montana
* * * * *
Huntley | 284A
* * * * *

[FR Doc. 2024-14746 Filed 7-5-24; 8:45 am]

BILLING CODE 6712-01-P